POSTAL SERVICE

United States Postal Service Board of Governors; Sunshine Act Meeting

Board Votes to Close November 13 and 15, 2001, Meeting

By telephone vote on November 13 and 15, 2001, the Board of Governors of the United States Postal Service voted unanimously to close to public observation its meeting held in Washington, D.C., via teleconference. The Board determined that prior public notice was not possible.

ITEMS CONSIDERED: 1. Strategic Planning.

2. Rate Case Update, Docket No. R2001-1.

GENERAL COUNSEL CERTIFICATION: The General Counsel of the United States Postal Service has certified that the meeting was properly closed under the Government in the Sunshine Act.

CONTACT PERSON FOR MORE INFORMATION: Requests for information about the meeting should be addressed to the Secretary of the Board, David G. Hunter, at (202) 268-4800.

David G. Hunter,
Secretary.

[FR Doc. 01-29292 Filed 11-19-01; 2:45 pm]

BILLING CODE 7710-12-M